DEPARTMENT OF DEFENSE

Office of the Secretary

Announcement of Federal Funding Opportunity (FFO)

AGENCY: Office of Economic Adjustment (OEA), DoD.

ACTION: Notice.

SUMMARY: This notice announces the opportunity to enter into a grant agreement with OEA for Brigade Basing Remediation-Support for Public Entities. OEA is authorized by Section 8041 of the National Defense Authorization Act for Fiscal Year 2010, Public Law 111-118, to provide up to $40 million for public entities adversely affected by the reversal of the decision to locate a 5th brigade at Fort Stewart, Georgia. Awards may be provided under this announcement directly to a state or local government, a local education agency, or other public entity or to a public entity on behalf of other eligible public entities.

DATES: Completed proposals must be received by OEA within the solicitation period which is not later than thirty (30) days after the date this announcement is published in the Federal Register. Any proposal received after this time will be considered non-responsive and the respondent will not be invited to make a formal application for funding. OEA will invite the successful respondents to apply for funding under this announcement following its review of proposals and determination of eligible respondents, which will occur subsequent to the solicitation period identified above.

ADDRESSES: All interested respondents must submit a proposal within the solicitation period identified above (see DATES). Proposals may be submitted to OEA by email, hand delivery, facsimile, U.S. Mail, or private delivery service. Send submissions to the Director, OEA, by mail or hand delivery to 400 Army Navy Drive, Suite 200, Arlington, VA 22202-4704, by facsimile to OEA at 703-604-5460, or electronically to FFOsubmit@wso.whs.mil.

FOR FURTHER INFORMATION CONTACT: For further information, contact: David F. Witschi, Associate Director, OEA, telephone: (703) 604-6020, e-mail: david.witschi@wso.whs.mil.

SUPPLEMENTARY INFORMATION: Federal Funding Opportunity Title: Brigade Basing Remediation—Support for Public Entities.

Announcement Type: Federal Funding Opportunity.

Catalog of Federal Domestic Assistance (CFDA) Number: 12.600.

I. Funding Opportunity Description

OEA, a DoD Field Activity, is authorized by Section 8041 of the National Defense Authorization Act for Fiscal Year 2010, Public Law 111-118, to provide Brigade Basing Remediation-Support for Public Entities. These funds are to mitigate adverse consequences experienced by public entities affected by the reversal of the decision to locate a 5th brigade at Fort Stewart, Georgia. Forty million dollars is made available under this notice.

II. Award Information

OEA is accepting proposals for Brigade Basing Remediation-Support for Public Entities. OEA will invite one or more successful respondents to enter into grant agreements following its review of proposals and determination of eligible respondents which will occur subsequent to the solicitation period identified above. The amount of each award will be determined by OEA based on the relative merit of the proposal, subject to the availability of funds under this announcement. For administrative convenience, after the closing date of this Announcement OEA reserves the right to designate a public entity, which otherwise need not be an eligible respondent, to serve as a single grant awardee solely for the purpose of distribution of funds to successful respondents, who will be subawardees. Such recipient may have its administrative expenses paid from the grant. To ultimately receive an award, an eligible respondent must submit both a successful proposal and an acceptable grant application.

III. Eligibility Information

Eligible respondents include a state; a regional or local government; an Indian tribe; a board of education or other statutorily constituted local school authority having administrative control and direction of free public education in a county, township, independent school district, or other school district; or other public entity.

For the purpose of this announcement, “adversely affected by the reversal of the decision to locate a 5th brigade at Fort Stewart, Georgia” means adversely affected by the June 2, 2009, announcement by the Department of Defense to reverse the December 19, 2007, announcement to station a 5th brigade at Fort Stewart, Georgia.

Eligible activities are limited to financial reimbursement for claims of expenses incurred by public entities due to the reversal of the decision to locate a 5th brigade at Fort Stewart, Georgia.

IV. Application and Submission Information

The process requires each interested respondent to submit a proposal within the solicitation period identified above (see DATES and ADDRESSES). Each proposal submitted should include a cover or transmittal letter signed by the Authorizing Official on behalf of the interested respondent. The text of the proposal shall consist of no more than 10 pages (single-sided) which must include:

• A summary of the claim the financial assistance will remediate;

• Explanation of how the claim relates to the time period between the announcement of the basing decision (December 19, 2007) and its reversal (June 2, 2009);

• Documentation, such as formal meeting minutes, board resolutions, dated invoices, etc., supporting the respondent's assertion that the claim is due to the reversal of the brigade basing decision;

• Documentation supporting the amount of expense to be remediated;

• Documentation that the Authorizing Official is authorized by the respondent to submit a proposal and subsequently apply for assistance under this Notice; and

• A local point of contact.

Proposals must be provided to the Director, OEA (see ADDRESSES).

V. Application Review Information

1. Selection Criteria—Upon validating the eligibility of the interested respondent to apply for assistance, OEA evaluates proposal content conforming to this announcement as the basis for inviting a formal grant application.

2. Review and Selection Process—Each proposal will be reviewed by a panel of OEA staff, which may be augmented by other Federal or non-Federal representatives, as to the proposal's individual merit and the strength of supporting documentation. OEA will notify each respondent subsequent to the solicitation period identified above whether the respondent's proposal:

• Was successful and invite the successful respondent to submit a grant application directly to OEA. OEA will assign a Project Manager to advise and assist successful respondents in the completion of the grant application;

• Was successful and invite the successful respondent to apply through a public entity designated by OEA to serve as a single grant awardee for the administrative convenience of OEA;

• Was unsuccessful and state the reasons why; or

• Remains under consideration pending the receipt of additional information which OEA will identify.

VI. Award Administration Information

1. Award Notices—To the extent possible, successful applicants will be notified within fourteen (14) days of the receipt at OEA of a complete grant application whether or not they will receive an award. Upon notification of an award, applicants will receive an award agreement, signed by the Director of OEA on behalf of DoD. Awardees must review the award agreement and indicate their consent to its terms by signing and returning it to OEA.

2. Administrative and National Policy Requirements—The Awardee, and any subawardee or consultant/contractor, operating under the terms of a grant shall comply with all applicable Federal, state, and local laws including the following, where applicable: 32 CFR parts 21 thru 34, “Department of Defense Grant and Agreement Regulations”; OMB Circulars A-87, “Cost Principles for State and Local Governments” and the revised A-133, “Audits of States, Local Governments and Non-Profit Organizations”; OMB Circular A-21, “Cost Principles for Educational Institutions”; OMB Circular A-122, “Cost Principles for Non Profit Organizations”; and 2 CFR part 175, “Award Term for Trafficking in Persons.”

3. Reporting—OEA requires interim performance reports and one final performance report for each award. The performance reports will contain information on the following:

• A comparison of actual accomplishments to the objectives established for the reporting period;

• Reasons for slippage if established objectives were not met;

• Additional pertinent information when appropriate;

• A comparison of actual and projected expenditures for the period;

• The amount of awarded funds on hand at the beginning and end of the reporting period.

The final performance report must contain a summary of activities for the entire award period. An SF 425, “Financial Status Report,” must be submitted to OEA within ninety (90) days after the end date of the award.

OEA will provide a schedule for reporting periods and report due dates in the Award Agreement.

VII. Agency Contacts

For further information, to answer questions, or for help with problems, contact: David F. Witschi, Associate Director, OEA, telephone: (703) 604-6020, e-mail: david.witschi@wso.whs.mil or regular mail at 400 Army Navy Drive, Suite 200, Arlington, VA 22202-4704.

VIII. Other Information

The OEA Internet address is http://www.oea.gov.

Dated: May 18, 2010.
Mitchell S. Bryman,
Alternate OSD Federal Register Liaison Officer, Department of Defense.

[FR Doc. 2010-12307 Filed 5-20-10; 8:45 am]

BILLING CODE 5001-06-P